DEPARTMENT OF ENERGY

Federal Energy Regulatory Commission

[Docket No. RP00-339-001]

Arkansas Western Pipeline, L.L.C.; Notice of Proposed Changes in FERC Gas Tariff

August 16, 2000.

Take notice that on August 11, 2000, Arkansas Western Pipeline, L.L.C. (AWP) tendered for filing as part of its FERC Gas Tariff, Original Volume No. 1, the following pro forma revised tariff sheet, to be effective on a date to be determined by the Commission pursuant to Order No. 637.

Third Revised Sheet No. 105

AWP also requested that it be permitted to withdraw the following pro forma tariff sheets previously filed in this proceeding:

Second Revised Sheet No. 13

Second Revised Sheet No. 105

AWP states that the purpose of this filing is to withdraw from this proceeding changes to AWP's tariff that are duplicative of tariff changes to provisions inconsistent with the removal of the price ceiling on short-term capacity releases which AWP has made in a separate limited Section 4 proceeding designated Docket No. RP00-454-000.

AWP further states that it has served copies of this filing upon the company's jurisdictional customers and interested state commissions and all persons on the official service list for this proceeding.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-21304 Filed 8-21-00; 8:45 am]

BILLING CODE 6717-01-M